DEPARTMENT OF TRANSPORTATION

Connected Vehicle Infrastructure Deployment Guidance Workshop; Notice of Public Meeting

AGENCY: ITS Joint Program Office, Office of the Assistant Secretary for Research, Technology, Federal Highway Administration, U.S. Department of Transportation.

ACTION: Notice.

The U.S. Department of Transportation (USDOT) Intelligent Transportation System Joint Program Office (ITS JPO) will host a free Connected Vehicle to Infrastructure (V2I) Deployment Guidance public workshop to seek stakeholder input on preparations by the Federal Highway Administration (FHWA) regarding the development of connected V2I deployment guidance and deployment coalition planning. The meeting will be held on Friday, September 12, 2014, from 9:30 a.m. (CST) to 2:30 p.m. (CST) in the Cobo Center, 1 Washington Blvd., Detroit, MI 48226, Room 310A. Remote participation will be available via web conference.

To register for the workshop, please visit www.itsa.org/fhwaworkshop.

The USDOT would like input from transportation infrastructure owner/operators on draft FHWA guidance aimed at supporting successful implementation and operations of connected vehicle technologies. It should be noted that the deployment of V2I technologies will be voluntary and is not coupled with the National Highway Traffic Safety Administration's (NHTSA) proposed rulemaking for Vehicle to Vehicle (V2V) communications.

The primary target audience for this meeting is State and local Departments of Transportation, transit operators, other operating agencies, and infrastructure owners who are starting to plan for the deployment and use of connected vehicle technologies in their area. This meeting will also present the objectives of forming a deployment coalition to support implementation.

While this meeting is specifically focused for an audience that has been following connected vehicle research and has been formulating plans for implementation, it is open to other stakeholders in the connected vehicle community, including national associations and the general public. The results of this meeting will inform FHWA's preparation of guidance and tools in support of V2I deployment.

For further information, please contact Robert Arnold, FHWA, Director, Office of Transportation Management by at robert.arnold@dot.gov or by telephone at 202-366-1285. Agenda items for this meeting are subject to change.

Issued in Washington, DC, on the 12th day of August 2014.
Stephen Glasscock,
Program Analyst, ITS Joint Program Office.

[FR Doc. 2014-19460 Filed 8-15-14; 8:45 am]

BILLING CODE 4910-9X-P